DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: Minority AIDS Initiative (MAI) Rapid HIV Testing Clinical Information Form (OMB No. 0930-0295)—Revision

This request is for a three-year generic clearance to continue rapid HIV testing data collection among 63 TCE-HIV Grantees and their clients and the additional 11 MAI-HIV Grantees and their clients. The primary purpose of the MAI Rapid HIV Testing Clinical Information Form is to use a standardized data collection instrument to fully capture essential clinical information to enhance preventive services for those who test HIV-negative and refer to quality treatment/medical care those who test HIV-positive.

The aim of the project is to implement and increase rapid HIV testing among racial and ethnic minorities and collect rapid HIV testing data using the MAI Rapid HIV Testing Clinical Information Form. To meet this requirement, all Grantees must offer their clients rapid HIV preliminary antibody testing during outreach, pretreatment, or program enrollment. In addition, rapid HIV testing may be made available to the sexual and/or injection partners of clients. Grantees must provide onsite rapid HIV testing in accordance with their respective State and local requirements. If a client requests an off-site rapid HIV test, the Grantee must provide a referral to a rapid HIV testing site certified by the local health department.

Grantees are currently using the MAI Rapid HIV Testing Clinical Information Form in the field to systematically collect information from clients on demographics, previous rapid HIV test results, substance use and sexual risk behaviors, current rapid HIV test results, types of services received, and confirmatory HIV test result. Once a client is offered a rapid HIV test, the Grantee staff completes the MAI Rapid HIV Testing Clinical Information Form with the client present and then enters the data into a secure Web site that allows for real-time data submission.

The estimated annualized burden is summarized below.

Respondents | Estimated number of respondents | Estimated number of responses per respondent | Average burden hours per response | Estimated total burden hours
MAI Rapid HIV Testing Clinical Information Form (FY 2008 and FY 2009-63 Grantees) | 10,000 | 1 | 0.133 | 1,330
RHT form for 11 HIV program FY 2011 grantees (public health departments) | 20,000 | 1 | 0.133 | 2,660
MAI Rapid HIV Testing Clinical Information Form (Re-test) | 6,000 | 1 | 0.133 | 798
Total | 30,000 |  |  | 4,788

Written comments and recommendations concerning the proposed information collection should be sent by July 12, 2012 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2012-14199 Filed 6-11-12; 8:45 am]

BILLING CODE 4162-20-P